COMMITTEE FOR PURCHASE FROM PEOPLE WHO ARE BLIND OR SEVERELY DISABLED

Procurement List; Proposed deletions

AGENCY: Committee for Purchase From People Who Are Blind or Severely Disabled.

ACTION: Proposed deletions from the Procurement List.

SUMMARY: The Committee is proposing to delete products on the Procurement List furnished by nonprofit agencies employing persons who are blind or have other severe disabilities.

DATES: Comments must be received on or before: August 1, 2020.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following products are proposed for deletion from the Procurement List:

Products

NSN(s)—Product Name(s):

7510-01-318-8641—Refill, Eraser, Mechanical Pencil, Thin, White

Mandatory Source of Supply: San Antonio Lighthouse for the Blind, San Antonio, TX

Contracting Activity: GSA/FAS ADMIN SVCS ACQUISITION BR(2, NEW YORK, NY

NSN(s)—Product Name(s):

7510-01-600-7625—Wall Calendar, Dated 2020, Wire Bound w/Hanger, 12″ x 17″

7510-01-679-2414—Wall Calendar, Recycled, Dated 2020, Vertical, 3 Months, 12-1/4″ x 26″

7510-01-679-2688—Monthly Planner, Recycled, Dated 2020, 14-month, 6-7/8″ x 8-3/4″

7510-01-679-5239—Professional Planner, Dated 2020, Recycled, Weekly, Black, 8-1/2″ x 11″

7530-01-600-7589—Daily Desk Planner, Dated 2020, Wire bound, Non-refillable, Black Cover

7530-01-600-7596—Weekly Desk Planner, Dated 2020, Wire Bound, Non-refillable, Black Cover

Mandatory Source of Supply: Chicago Lighthouse Industries, Chicago, IL

Contracting Activity: GSA/FAS ADMIN SVCS ACQUISITION BR(2, NEW YORK, NY

NSN(s)—Product Name(s):

7530-01-583-3819—Folders, File, Interior Height, Manila, ⅓ Cut, Legal

Mandatory Source of Supply: Association for Vision Rehabilitation and Employment, Inc., Binghamton, NY

Contracting Activity: GSA/FAS ADMIN SVCS ACQUISITION BR(2, NEW YORK, NY

NSN(s)—Product Name(s):

7210-00-715-9130—Cover, Mattress

Mandatory Source of Supply: LC Industries, Inc., Durham, NC

Contracting Activity: DLA TROOP SUPPORT, PHILADELPHIA, PA

Michael R. Jurkowski,
Deputy Director, Business & PL Operations.

[FR Doc. 2020-14282 Filed 7-1-20; 8:45 am]

BILLING CODE 6353-01-P